DEPARTMENT OF ENERGY

Federal Energy Regulatory Commission

[Project No. 13563-001]

Juneau Hydropower, Inc.; Notice of Draft License Application and Preliminary Draft Environmental Assessment (PDEA) and Request for Preliminary Terms and Conditions

Take notice that the following hydroelectric application has been filed with the Commission and is available for public inspection.

a. Type of Application: Major Unconstructed Project.

b. Project No.: 13563-001.

c. Date Filed: August 31, 2012.

d. Applicant: Juneau Hydropower, Inc.

e. Name of Project: Sweetheart Lake Hydroelectric Project.

f. Location: At the confluence of Sweetheart Creek and Gilbert Bay, about 30 air miles and 33 nautical miles southeast of the City of Juneau, Alaska. The project would occupy 1,882 acres of federal lands within the Tongass National Forest, administered by the U.S. Forest Service.

g. Filed Pursuant to: Federal Power Act 16 U.S.C. 791(a)-825(r).

h. Applicant Contact: Duff Mitchell, Business Manager, Juneau Hydropower, Inc., P.O. Box 22775, Juneau, AK 99802; 907-789-2775, email: duff.mitchell@juneauhydro.com.

i. FERC Contact: Jennifer Harper, (202) 502-6136, jennifer.harper@ferc.gov.

j. Status of Project: With this notice the Commission is soliciting (1) preliminary terms, conditions, and recommendations on the Preliminary Draft Environmental Assessment (PDEA), and (2) comments on the Draft License Application (DLA).

k. Deadline for filing: November 29, 2012.

All comments on the PDEA and DLA should be sent to the addresses noted above in Item (h), and filed with FERC. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

All comments must include the project name and number and bear the heading Preliminary Comments, Preliminary Recommendations, Preliminary Terms and Conditions, or Preliminary Prescriptions.

l. A copy of the application is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

Juneau Hydropower, Inc. has mailed a copy of the PDEA and DLA to interested entities and parties. Copies of these documents are available for review at the Juneau Public Library, 292 Marine Way, Juneau, Alaska 99801; or at the Juneau Hydropower, Inc. Web site, www.juneauhydro.com.

m. With this notice, we are initiating consultation with the Alaska State Historic Preservation Officer as required by Section 106, National Historic Preservation Act, and the regulations of the Advisory Council on Historic Preservation, 36 CFR § 800.4.

Dated: October 10, 2012.
Kimberly D. Bose,
Secretary.

[FR Doc. 2012-25394 Filed 10-15-12; 8:45 am]

BILLING CODE 6717-01-P